DEPARTMENT OF TRANSPORTATION

Federal Aviation Administration

[Summary Notice No. PE-2001-94]

Petitions for Exemption; Summary of Dispositions of Petitions Issued

AGENCY: Federal Aviation Administration (FAA), DOT.

ACTION: Notice of Dispositions of prior petitions.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, DC, on December 13, 2001.
Donald P. Byrne,
Assistant Chief Counsel for Regulations.

Dispositions of Petitions

Docket No.: FAA-2001-9815 (previously Docket No. 29397).

Petitioner: Japan Airlines Company, Ltd.

Section of 14 CFR Affected: 14 CFR 145.47(b).

Description of Relief Sought/Disposition: To permit JAL to use the calibration standards of the Metrology Institute of Japan in lieu of the calibration standards of the U.S. National Institute of Standards and Technology, to test its inspection and test equipment. Grant, 10/31/2001, Exemption No. 7050A.

Docket No.: FAA-2001-11025.

Petitioner: Miller Aviation, L.L.C.

Section of 14 CFR Affected: 14 CFR § 135.143(c)(12).

Description of Relief Sought/Disposition: To permit MAL to operate certain aircraft under part 135 without a TSO-C112 (Mode S) transponder installed in the aircraft. Grant, 11/21/2001, Exemption No. 7663.

Docket No.: FAA-2001-10984 (previously Docket No. 28842).

Petitioner: Air Tahoma.

Section of 14 CFR Affected: 14 CFR § 135.143(c)(2).

Description of Relief Sought/Disposition: To permit Air Tahoma to operate certain aircraft under part 135 without a TSO-C112 (Mode S) transponder installed in the aircraft. Grant, 11/21/2001, Exemption No. 7664.

Docket No.: FAA-2001-9786 (previously Docket No. 26029).

Petitioner: ABX Air, Inc., dba Airborne Express.

Section of 14 CFR Affected: 14 CFR §§ 121.503(b), 121.505(a), and 121.511(a).

Description of Relief Sought/Disposition: To permit ABX flightcrews consisting of two pilots and one flight engineer to complete certain transcontinental flight schedules before being provided with at least 16 hours of rest. Grant, 11/23/2001, Exemption No. 5167F.

Docket No.: FAA-2001-10587.

Petitioner: American Airlines, Inc.

Section of 14 CFR Affected: 14 CFR 121.457(a) and V.A.1. of Appendix I to part 121.

Description of Relief Sought/Disposition: To permit American employees performing safety-sensitive functions for TWA Airlines LLC to perform identical functions for American without being subject to additional preemployment drug testing. Grant, 11/14/2001, Exemption No. 7661.

Docket No.: FAA-2001-9942.

Petitioner: McMahon Helicopter Services.

Section of 14 CFR Affected: 14 CFR § 135.152(a).

Description of Relief Sought/Disposition: To permit MHS to operate its three Sikorsky S-58T helicopters (Registration Nos. N58S, N589S, and N598S, and Serial Nos. 1502, 740, and 1196, respectively) without those helicopters being equipped with an approved digital flight data recorder. Grant, 11/14/2001, Exemption No. 7662.

[FR Doc. 01-31183 Filed 12-17-01; 8:45 am]

BILLING CODE 4910-13-M